DEPARTMENT OF THE INTERIOR

Bureau of Indian Affairs

[167 A2100DD/AAKC001030/A0A501010.999900]

Renewal of Agency Information Collection for Leases and Permits

AGENCY: Bureau of Indian Affairs, Interior.

ACTION: Notice of submission to OMB.

SUMMARY: In compliance with the Paperwork Reduction Act of 1995, the Bureau of Indian Affairs (BIA) is submitting to the Office of Management and Budget (OMB) a request for approval for the collection of information for Leases and Permits. The information collection is currently authorized by OMB Control Number 1076-0155, which expires November 30, 2015.

DATES: Interested persons are invited to submit comments on or before December 30, 2015.

ADDRESSES: You may submit comments on the information collection to the Desk Officer for the Department of the Interior at the Office of Management and Budget, by facsimile to (202) 395-5806 or you may send an email to: OIRA_Submission@omb.eop.gov. Please send a copy of your comments to: Ms. Sharlene Round Face, Office of Trust Services, Bureau of Indian Affairs, 1849 C Street NW., Mailstop 3642—MIB, Washington, DC 20240; email: Sharlene.Roundface@bia.gov.

FOR FURTHER INFORMATION CONTACT: Ms. Sharlene Round Face, Office of Trust Services, Bureau of Indian Affairs, 1849 C Street NW., Mailstop 3642—MIB, Washington, DC 20240; email: Sharlene.Roundface@bia.gov. You may review the information collection request online at http://www.reginfo.gov. Follow the instructions to review Department of the Interior collections under review by OMB.

SUPPLEMENTARY INFORMATION:

I. Abstract

The Bureau of Indian Affairs (BIA) is seeking renewal of the approval for information collection conducted under 25 CFR 162, Leases and Permits, for the review and approval of leases and permits on land the United States holds in trust or restricted status for individual Indians and Indian Tribes. This information collection allows BIA to review applications for leases and permits, modifications, and assignments, and to determine:

(a) Whether or not a lease may be approved or granted;

(b) The value of each lease;

(c) The appropriate compensation to landowners; and

(d) Provisions for violations of trespass.

A response is required to obtain or retain a benefit.

II. Request for Comments

On September 14, 2015, BIA published a notice announcing the renewal of this information collection and provided a 60-day comment period in the Federal Register (80 FR 55146). There were no comments received in response to this notice.

The BIA requests your comments on this collection concerning: (a) The necessity of this information collection for the proper performance of the functions of the agency, including whether the information will have practical utility; (b) The accuracy of the agency's estimate of the burden (hours and cost) of the collection of information, including the validity of the methodology and assumptions used; (c) Ways we could enhance the quality, utility, and clarity of the information to be collected; and (d) Ways we could minimize the burden of the collection of the information on the respondents.

Please note that an agency may not conduct or sponsor, and an individual need not respond to, a collection of information unless it has a valid OMB Control Number.

It is our policy to make all comments available to the public for review at the location listed in the ADDRESSES section. Before including your address, phone number, email address or other personal identifying information in your comment, you should be aware that your entire comment—including your personal identifying information—may be made publicly available at any time. While you can ask us in your comment to withhold your personal identifying information from public review, we cannot guarantee that we will be able to do so.

III. Data

OMB Control Number: 1076-0155.

Title: Leases and Permits, 25 CFR 162.

Brief Description of Collection: Generally trust and restricted land may be leased by Indian land owners, with the approval of the Secretary of the Interior, except when specified by statute. Submission of this information allows BIA to review applications for obtaining, modifying and assigning leases and permits of land that the United States holds in trust or restricted status for individual Indians and Indian Tribes. The information is used to determine approval of a lease, amendment, assignment, sublease, mortgage or related document. A response is required to obtain or retain a benefit.

Type of Review: Revision of a currently approved collection.

Respondents: Individual Indians and Indian Tribes seeking to lease their trust or restricted land and businesses that lease trust and restricted land.

Estimated Number of Respondents: 99,340.

Frequency of Response: In general, once per approval per lease. Some collections occur upon request for modification or assignment or upon a trespass violation, which occur, on average, fewer than once per lease. Additionally, rent payments occur, on average, once per month.

Obligation To Respond: Response required to obtain a benefit.

Estimated Time per Response: Ranges from 15 minutes to 3 hours.

Estimated Total Annual Hour Burden: 82,913 hours.

Estimated Total Annual Non-Hour Dollar Cost: $1,813,000.

Elizabeth K. Appel,
Director, Office of Regulatory Affairs and Collaborative Action—Indian Affairs.

[FR Doc. 2015-30330 Filed 11-27-15; 8:45 am]

BILLING CODE 4337-15-P